DEPARTMENT OF AGRICULTURE

Farm Service Agency

[Docket ID FSA-2020-0002]

Information Collection Requests; Farm Loan Programs: Inventory Property Management (OMB Control Number 0560-0234), Direct Loan Servicing-Regular (OMB Control Number 0560-0234), General Program Administration (OMB Control Number 0560-0238) and Guaranteed Farm Loan Program (OMB Control Number 0560-0155)

AGENCY: Farm Service Agency, USDA.

ACTION: Notice; request for comments.

SUMMARY: In accordance with the Paperwork Reduction Act (PRA) of 1995, the Farm Service Agency (FSA) is requesting comments from all interested individuals and organizations on the four Farm Loan Programs' information collection requests. The four collection requests in the Farm Loan Programs are: Inventory Property Management, Direct Loan Servicing—Regular, Guaranteed Farm Loan Program and General Program Administration. In the Inventory Property Management, the collected information is used to evaluate applicant requests to purchase inventory property, determine eligibility to lease or purchase inventory property, and ensure the payment of the lease amount or purchase amount associated with the acquisition of inventory property. In the Direct Loan Servicing—Regular, the information is used to determine borrower compliance with loan agreements, assist the borrower in achieving business goals, and regular servicing of the loan account such as graduation, subordination, partial release, and use of proceeds. In the General Program Administration, the information collected is used to ensure that applicants meet statutory eligibility requirements, loan funds are used for authorized purposes, and the Government's interest in security is adequately protected. In the Guaranteed Farm Loan Program, the collected information is needed to make and service loans guaranteed by FSA to eligible farmers and ranchers by commercial lenders and nontraditional lenders.

DATES: We will consider comments that we receive by April 20, 2020.

ADDRESSES: We invite you to submit comments on this notice. In your comments, please include date, volume, and page number of this issue of the Federal Register. You may submit comments by the following method: Federal eRulemaking Portal; Go to http://www.regulations.gov and search for Docket ID FSA-2020-0001.

You may also send comments to the Desk Officer for Agricultures, Office of the Information and Regulatory Affairs, Office of Management and Budget, Washington, DC, 20503. Comments will be available for public inspection online at http://www.regulations.gov.

FOR FURTHER INFORMATION CONTACT: For specific questions related to the collection activities or to obtain a copy of the information collection request: For the Inventory Property Management and Direct Loan Servicing-Regular, please contact Lee Nault, (202) 720-6834; lee.nault@usda.gov; for the Guaranteed Farm Loan Program, please contact Steve Ford, 202-304-7932; stevefords2@usda.gov and for the General Program Administration, please contact Niki Chavez, 202-690-61, niki.chavez@usda.gov.

SUPPLEMENTARY INFORMATION:

Title: Farm Loan Programs; Inventory Management Program.

OMB Control Number: 0560-0234.

Expiration Date: April 30, 2020.

Type of Request: Extension with a revision.

Abstract: FSA's Farm Loan Programs provide supervised credit in the form of loans to family farmers to purchase real estate and equipment and finance agricultural production. Inventory Property Management, as specified in 7 CFR part 767, provides the requirements for the management, lease, and sale of security property acquired by FSA. FSA may take title to real estate as part of dealing with a problem loan either by entering a winning bid in an attempt to protect its interest at a foreclosure sale, or by accepting a deed of conveyance in lieu of foreclosure. Information collections established in the regulation are necessary for FSA to determine an applicant's eligibility to lease or purchase inventory property and to ensure the applicant's ability to make payment on the lease or purchase amount.

The number of response and burden hours decrease in this request. While the overall number of inventory properties on hand increased 13.5 percent from the last collection, the decrease in responses and burden hours is due to reduction int eh estimated number of inventory properties sold. The number projected to be sold has been revised downward to match reported sales percentages over the last several years.

For the following estimated total annual burden on respondents, the formula used to calculate the total burden hour is the estimated average time per responses hours multiplied by the estimated total annual responses.

Estimate of Average Time to Respond: Public reporting burden for the information collection is estimated to average 0.57 hours per response.

Type of Respondents: Individuals or households, businesses or other for-profit farms.

Estimated Annual Number of Respondents: 239.

Estimated Number of Reponses per Respondent: 1.

Estimated Total Annual Responses: 239.

Estimated Average Time per Response: 0.57 hours.

Estimated Total Annual Burden on Respondents: 136 hours.

Title: Farm Loan Programs—Direct Loan Servicing—Regular.

OMB Control Number: 0560-0236.

Expiration Date: July 31, 2020.

Type of Request: Extension with a revision.

Abstract: FSA's Farm Loan Programs provide loans to family farmers to purchase real estate and equipment, and finance agricultural production. Direct Loan Servicing—Regular, as specified in 7 CFR part 765, provides the requirements related to routine servicing actions associated with direct loans. FSA is required to actively supervise its borrowers and provide credit counseling, management advice and financial guidance. Additionally, FSA must document that credit is not available to the borrower from commercial credit sources in order to maintain eligibility for assistance. Information collections established in the regulation are necessary for FSA to monitor and account for loan security, including proceeds derived from the sale of security, and to process a borrower's request for subordination or partial release of security. Borrowers are required to provide financial information to determine graduation eligibility based on commercial lender standards provided to FSA.

FSA is requesting OMB approval on the estimated numbers, which are being provided currently in this request. The burden hours have been increased by 2,114 hours while the annual response have increased by 65. The reason for the increase is due to an overall 10% increase in the number of the borrowers and the use of updated reporting tools to reevaluate previous burden estimates even though the travel times removed from the request.

For the following estimated total annual burden on respondents, the formula used to calculate the total burden hours is the estimated average time per responses multiplied by the estimated total annual of responses.

Estimate of Average Time to Respond: Public reporting burden for collecting information under this notice is estimated to average 0.31 hours per response, including the time for reviewing instructions, searching existing data sources, gathering and maintaining the data needed, and completing and reviewing the collection of information.

Type of Respondents: Business or other for profits and farms.

Estimated Number of Respondents: 94,603.

Estimated Average Number of Responses per Respondent: 1,031.

Estimated Total Annual Responses: 97,536.

Estimated Average Time per Response: 0.31.

Estimated Total Annual Burden on Respondents: 30,155 hours.

Title: Farm Loan Programs—General Program Administration.

OMB Control Number: 0560-0238.

Expiration Date: July 31, 2020.

Type of Request: Extension with a revision.

Abstract: General Program Administration, as specified in the 7 CFR 761, contains requirements that are applicable to making and servicing direct loans. The information collections are necessary to ensure that applicants meet statutory eligibility requirements, loan funds are used for authorized purposes, and the Federal Government's interest in security is adequately protected. Specific information collection requirements include financial information in the form of a balance sheet and cash flow projection used in loan making and servicing decisions; information needed to establish joint bank accounts in which loan funds, proceeds derived from the sale of loan security and insurance proceeds, may be deposited; collateral pledges from financial institutions when the balance of a supervised bank account will exceed the maximum amount insurable by the Federal Government; and documents that construction plans and specifications to comply with state and local building standards. Since the introduction of Microloan Loan (ML) Program certain forms included in this information collection are no longer being used and others are being used less. In addition, as interest rates have remained well below the limited resource rate, the agency has not conducted limited resource reviews to over 20,400 respondents resulting in a total program changes decrease of 20,181 respondents; 40,105 responses; and 23,943 burden hours. Further, the agency no longer counts respondents' hours of travel time. Respondents may submit applications by mail and many respondents go to the county offices to do regular and customary business with FSA for other FSA programs and can complete and submit the farm loan programs forms during this time; this means no travel time is required specifically for the information collection and therefore, it is no longer included in the burden hour reporting.

For the following estimated total annual burden on respondents, the formula used to calculate the total burden hours is the estimated average time per response multiplied by the estimated total annual responses.

Estimated Respondent Burden: Public reporting burden for this collection of information is estimated to average 1.02 hours per response.

Type of Respondents: Individuals or households, businesses or other for profit and farms.

Estimated Number of Respondents: 64,802.

Estimated Number of Responses per Respondent: 2.5.

Estimated Total Annual Number of Responses: 164,483.

Estimated Average Time per Response: 1.02 hours.

Estimated Total Annual Burden on Respondents: 168,029 hours.

Title: Farm Loan Programs—Guaranteed Farm Loan.

OMB Control Number: 0560-0155.

Expiration Date: July 31, 2020.

Type of Request: Extension with a revision.

Abstract: This information collection is needed to effectively administer the FSA guaranteed farm loan programs. The information is collected by the FSA loan official in consultation with participating lenders. The basic objective of the guaranteed loan program is to provide credit to applicants who are unable to obtain credit from lending institutions without a guarantee. The reporting requirements imposed on the public by the regulations at 7 CFR part 762 and 763 are necessary to administer the guaranteed loan program in accordance with statutory requirements of the Consolidated Farm and Rural Development Act and are consistent with commonly performed lending practices. Collection of information after loans are made is necessary to protect the Government's financial interest. The annual responses have been reduced by 17,315 while the burden hours reduced by 48,997 hours in the request. The reason for the decrease is due to a drop in Guaranteed loans originated between the yeas preceding FY 2017 and FY 2020. Between FY 2016 and FY 2919, the number of Guaranteed loans fell by 24 percent from 10,047 to 7611. In addition, the number of loss claims and status reports received is much lower than FY 2017. The travel times was also removed from this request.

For the following estimated total annual burden on respondents, the formula used to calculate the total burden hours is the estimated average time per response multiplied by the estimated total annual responses.

Estimate of Average Time to Respond: Public reporting burden for collecting information under this notice is estimated to average 0.84434 minutes per response, including the time for reviewing instructions, searching existing data sources, gathering and maintaining the data needed, and completing and reviewing the collection of information.

Type of Respondents: Businesses or other for-profits and Farms.

Estimated Number of Respondents: 12.8.

Estimated Average Number of Responses per Respondent: 9,700.

Estimated Total Annual Responses: 202,898.

Estimated Average Time per Response: 0.8434.

Estimated Total Annual Burden on Respondents: 171,126 hours.

Requesting Comments

FSA is requesting comments on all aspects of this information collection to help us to:

(1) Evaluate whether the collection of information is necessary for the proper performance of the functions of FSA, including whether the information will have practical utility;

(2) Evaluate the accuracy of FSA's estimate of burden including the validity of the methodology and assumptions used;

(3) Enhance the quality, utility and clarity of the information to be collected;

(4) Minimize the burden of the collection of information on those who are to respond, including through the use of appropriate automated, electronic, mechanical, or other technological collection techniques or other forms of information technology.

All comments received in response to this notice, including names and addresses when provided, will be a matter of public record. Comments will be summarized and included in the submission for Office of Management and Budget approval.

Steve Peterson,
Acting Administrator, Farm Service Agency.

[FR Doc. 2020-03303 Filed 2-19-20; 8:45 am]

BILLING CODE 3410-05-P